DEPARTMENT OF JUSTICE

Notice of Lodging of Stipulation and Order of Judgment Under the Clean Air Act

Notice is hereby given that on December 12, 2002, a proposed Stipulation and Order for Judgment, (Stipulation) in United States v. Sierra Rock, et al., Civil Action No. S-00-2117 GEB DAD was lodged with the United States District Court for the Eastern District of California.

In this action the United States sought civil penalties and injunctive relief for violation of the Clean Air Act against Defendants Sierra Rock, and Loring and Thelma Brunius as owners and operators of the Weber Creek Quarry, located in El Dorado County, California. The complaint alleges that defendants are liable for violating section 114(a)(1), and (3), and 113 (b)(1) of the Clean Air Act and the California State Implementation Plan (California SIP) by failing to adequately respond to an Administrative Order requiring compliance with an Information Request, and for violating numerous provisions of the California SIP and defendants' operating permits, especially as they relate to the duty to control and suppress dust during quarry operations. Pursuant to the Stipulation between the parties, Defendants agree to pay a civil penalty of $69,729. Because of defendants' limited ability to pay, the civil penalty will be made in three installments over a two-year period and interest will accrue on the delayed installment payments. In addition, defendants agree to implement specific and substantial injunctive provisions aimed at reducing dust at the quarry.

The Department of Justice will receive for a period of 30 days from the date of this publication comments relating to the Stipulation. Comments should be addressed to the Assistant Attorney General, Environment and Natural Resources Division, PO Box 7611, U.S. Department of Justice, Washington, DC 20044-7611, and should refer to U.S. v. Sierra Rock, et al., D.J. Ref. 90-5-2-1-07194.

The Stipulation may be examined at the Office of the United States Attorney, 501 “I” Street, 10th Floor, Sacramento, CA 95814, and at U.S. EPA Region 9, 75 Hawthorne Street, San Francisco, California, 94105. A copy of the Stipulation may also be obtained by mail from the Consent Decree Library, PO Box 7611, U.S. Department of Justice, Washington, DC 20044-7611 or by faxing a request to Tonia Fleetwood, fax no. (202) 514-0097, phone confirmation number (202) 514-1547. In requesting a copy, please enclose a check in the amount of $3.00 (25 cents per page reproduction cost) payable to the U.S. Treasury.

Ellen M. Mahan,
Assistant Section Chief, Environmental Enforcement Section, Environment and Natural Resources Division.

[FR Doc. 02-33081 Filed 12-31-02; 8:45 am]

BILLING CODE 4410-15-M